DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; (e) of the addition of data collection in the U.S. Territories; and (f) implications and feedback on proposing to change the name of the survey.

Proposed Project: National Survey on Drug Use and Health (OMB No. 0930-0110)

The National Survey on Drug Use and Health (NSDUH) is a survey of the U.S. civilian, non-institutionalized population aged 12 years old or older. The data are used to provide estimates of substance use and mental illness at the national, state, and substate levels. NSDUH data also help to identify the extent of substance use and mental illness among different subgroups, estimate trends over time, and determine the need for treatment services. The results are used by SAMHSA, the Office of National Drug Control Policy (ONDCP), Federal Government agencies, and other organizations and researchers to establish policy, direct program activities, and better allocate resources.

For the 2025 NSDUH, SAMHSA is proposing to change the name of the study to the National Household Survey on Behavioral Health (NHSBH) to emphasize the inclusion of the long-standing mental health-related survey elements and to clarify for key stakeholders the full content of the survey's questions and data. The proposed name change will facilitate participant, researcher, and public understanding that the NSDUH is focused on both drug use but also mental health. The current name of the survey does not specifically capture questionnaire items across substance use and mental health, both separately and as co-occurring conditions. In addition, the name change will better align the survey with SAMHSA's mission.

The survey's name is currently well recognized by those in the community, states, and academia, and this recognition comes from the quality of the information provided. The continuing excellence of the information provided is anticipated to re-establish the recognition of the survey with the new name. It is anticipated that changing the name of the survey will highlight mental health components.

SAMHSA is committed to addressing any concerns with a name change that may lead to confusion and/or misperception among some stakeholders and the general public, which could affect participation in the survey, misinterpretation of changes with the survey's content or purpose, or difficulty locating the pertinent information about the study's results. Nonetheless, these potential stakeholder responses and challenges will be addressed by emphasizing the significance of a name that reflects the complete content of the survey. A new name may also facilitate discussions on substance use and co-occurring mental health disorders.

Efforts will be made to promote, market, and educate about the quality and applicability of the results. These efforts may spark renewed interest in the survey and the uptake of the results in publications and reports.

As with all NSDUH/NHSDA ¹ surveys conducted since 1999, the sample size of the NSDUH main study for 2025 will be sufficient to permit prevalence estimates for each of the fifty states and the District of Columbia. The total annual burden estimate for the NSDUH main study is shown below in Table 1.

¹ Prior to 2002, the NSDUH was referred to as the National Household Survey on Drug Abuse (NHSDA).

Table 1—Annualized Estimated Burden for 2025 NSDUH
Instrument | Number of respondents | Responses per respondent | Total number of responses | Hours per response | Total burden hours
Household Screening | 285,894 | 1 | 285,894 | 0.083 | 23,729
Interview | 67,507 | 1 | 67,507 | 1.008 | 68,047
Screening Verification | 6,004 | 1 | 6,004 | 0.067 | 402
Interview Verification | 7,088 | 1 | 7,088 | 0.067 | 475
Total | 366,493 |  | 366,493 |  | 92,653

Exploratory Pilot Testing in the U.S. Territories

SAMHSA is interested in expanding NSDUH data collection to include U.S. territories. This will involve conducting several pilot tests and implementing a phased approach before expanding data collection full scale into the U.S. Territories. The initial phase will explore logistical considerations in Puerto Rico and in the U.S. Virgin Islands, followed by various data collection pilot efforts that will assess the ease or difficulty with recruiting field staff, potential travel difficulties due to terrain, internet reliability, differences in address conventions, language dialect differences, and differences in demographic characteristics. The results of the pilot testing will provide SAMHSA with insights into the feasibility of successfully conducting full-scale data collection in future NSDUH surveys.

Mental Illness Calibration Study

In addition, the Mental Illness Calibration Study (MICS) will continue to be embedded within the NSDUH main study for the remainder of 2024 to recalibrate the estimates of serious mental illness (SMI) for the NSDUH using the Diagnostic and Statistical Manual of Mental Disorders (DSM), fifth edition (DSM-5) criteria published by the American Psychiatric Association (APA). The 2023 and 2024 MICS will be sampled from the main study NSDUH using completed mental health items as screeners.

During MICS data collection from January 2023 through December 2024, approximately 17,180 NSDUH adult main study interview respondents (aged 18+) will be selected for a follow-up clinical interview at the end of the main study interview in order to produce a final sample size of at least 4,000 adult MICS follow-up clinical interviews (2,000 interviews per year). These follow-up clinical interviews will be conducted virtually via Zoom (video and/or phone) within four weeks following the NSDUH main study interview using the NetSCID, a computerized version of the Structured Clinical Interview for DSM-5 (SCID) that calculates skip logic in real-time based on responses.

Many of the procedures and protocols in the MICS are based upon those previously employed as part of the 2008-2012 NSDUH Mental Health Surveillance Study (approved as an add-on to NSDUH under OMB No. 0930-0110). The total annual burden for the 2023 and 2024 MICS was approved under previous NSDUH ICRs (OMB No. 0930-0110).

Send comments to Carlos Graham, SAMHSA Reports Clearance Officer, 5600 Fisher Lane, Room 15E57A, Rockville, MD 20852 or email him a copy at carlos.graham@samhsa.hhs.gov. Written comments should be received by May 3, 2024.

Alicia Broadus,
Public Health Advisor.

[FR Doc. 2024-04429 Filed 3-1-24; 8:45 am]

BILLING CODE 4162-20-P